DEPARTMENT OF VETERANS AFFAIRS

38 CFR Part 3

RIN 2900-AK65

Filipino Veterans' Benefits Improvements

AGENCY: Department of Veterans Affairs.

ACTION: Final rule.

SUMMARY: This document amends the Department of Veterans Affairs (VA) adjudication regulations to implement Public Law 108-183, the Veterans Benefits Act of 2003. This public law added service in the Philippine Scouts as qualifying service for payment of compensation, dependency and indemnity compensation (DIC), and monetary burial benefits at the full-dollar rate, and provided for payment of DIC at the full-dollar rate to survivors of certain veterans of the Philippine Commonwealth Army and recognized guerrilla forces who lawfully reside in the United States. This document adopts the interim final rule, which was published in the Federal Register on February 16, 2006 at 71 FR 8215, as a final rule with a technical correction.

DATES: Effective Date: This amendment is effective January 3, 2007.

FOR FURTHER INFORMATION CONTACT: Bill Russo, Chief, Regulations Staff (211D), Compensation and Pension Service, Veterans Benefits Administration, Department of Veterans Affairs, 810 Vermont Ave., NW., Washington DC, 20420, (202) 273-7210.

SUPPLEMENTARY INFORMATION: On December 27, 2001, VA published an interim final rule in the Federal Register for notice and comment (66 FR 66763) amending VA adjudication regulations to reflect changes made by two public laws. First, Public Law 106-377, The Departments of Veterans Affairs and Housing and Urban Development and Independent Agencies Appropriations Act, 2001, changed the rate of compensation payments to certain veterans of the Philippine Commonwealth Army and recognized guerrilla forces who reside in the United States. Second, Public Law 106-419, the Veterans Benefits and Health Care Improvement Act of 2000, changed the amount of monetary burial benefits that VA will pay to survivors of certain veterans of the Philippine Commonwealth Army and recognized guerrilla forces who lawfully reside in the United States at death. On February 16, 2006, VA published in the Federal Register (71 FR 8215) a final rule adopting the interim final rule with changes and responding to public comments. Included with this final rule was an interim final rule that implemented Public Law 108-183 and solicited comments on these regulatory amendments only. Interested persons were invited to submit written comments on or before March 20, 2006. We did not receive any comments.

We are making one change to 38 CFR 3.42(c)(4)(ii) as a technical correction. We determined that there was an error in the text of the interim final rule, as published on February 16, 2006. Section 3.42(c)(4)(ii) incorrectly stated, “A Post Office box mailing address in the veteran's name does not constitute evidence showing that the veteran was lawfully residing in the United States on the date of death.” The proof of residence requirements in § 3.42(c)(4) apply to both compensation benefits paid to veterans and dependency and indemnity compensation benefits paid to veterans' survivors, but the interim final rule in § 3.42(c)(4)(ii) incorrectly referred only to veterans. Moreover, the reference to “date of death” is incorrect; that criterion would only apply in a claim for full-dollar burial benefits under § 3.43. We are therefore correcting § 3.42(c)(4)(ii) to state, “A Post Office box mailing address in the veteran's name or the name of the veteran's survivor does not constitute evidence showing that the veteran or veteran's survivor is lawfully residing in the United States.”

Based on the rationale stated in the interim final rule published on February 16, 2006, and in this document, the interim final rule is adopted as a final rule with a technical correction.

Paperwork Reduction Act

All collections of information under the Paperwork Reduction Act (44 U.S.C. 3501-3521) referenced in this final rule have existing OMB approval as a form under control number 2900-0655. No changes are made in this final rule to those collections of information.

Regulatory Flexibility Act

The Secretary hereby certifies that this regulatory amendment will not have a significant economic impact on a substantial number of small entities as they are defined in the Regulatory Flexibility Act, 5 U.S.C. 601-612. The reason for this certification is that these amendments would not directly affect any small entities. Only VA beneficiaries could be directly affected. Therefore, under 5 U.S.C. 605(b), these amendments are exempt from the initial and final regulatory flexibility analysis requirements of 5 U.S.C. 603 and 604.

Executive Order 12866

Executive Order 12866 directs agencies to assess all costs and benefits of available regulatory alternatives and, when regulation is necessary, to select regulatory approaches that maximize net benefits (including potential economic, environmental, public health and safety, and other advantages; distributive impacts; and equity). The Order classifies a rule as a significant regulatory action requiring review by the Office of Management and Budget if it meets any one of a number of specified conditions, including: having an annual effect on the economy of $100 million or more, creating a serious inconsistency or interfering with an action of another agency, materially altering the budgetary impact of entitlements or the rights of entitlement recipients, or raising novel legal or policy issues. VA has examined the economic, legal, and policy implications of this final rule and has concluded that it is not a significant regulatory action under Executive Order 12866 because it merely provides a technical correction to the interim final rule.

Unfunded Mandates

The Unfunded Mandates Reform Act of 1995 requires, at 2 U.S.C. 1532, that agencies prepare an assessment of anticipated costs and benefits before issuing any rule that may result in expenditure by State, local, or tribal governments, in the aggregate, or by the private sector, of $100 million or more (adjusted annually for inflation) in any given year. This rule will have no such effect on State, local, or tribal governments, or the private sector.

Catalog of Federal Domestic Assistance Numbers and Titles

The Catalog of Federal Domestic Assistance program numbers and titles are 64.100, Automobiles and Adaptive Equipment for Certain Disabled Veterans and Members of the Armed Forces; 64.101, Burial Expenses Allowance for Veterans; 64.104, Pension for Non-Service-Connected Deaths for Veterans; 64.105, Pension to Veterans Surviving Spouses, and Children; 64.106, Specially Adapted Housing for Disabled Veterans; 64.109, Veterans Compensation for Service-Connected Disability; and 64.110, Veterans Dependency and Indemnity Compensation for Service-Connected Death.

List of Subjects in 38 CFR Part 3

Administrative practice and procedure, Claims, Disability benefits, Health care, Pensions, Radioactive materials, Veterans, Vietnam.

Approved: August 10, 2006.
Gordon H. Mansfield,
Deputy Secretary of Veterans Affairs.

Accordingly, the interim final rule amending 38 CFR part 3 which was published at 71 FR 8215 on February 16, 2006, is adopted as a final rule with the following technical correction:

PART 3—ADJUDICATION

Subpart A—Pension, Compensation, and Dependency and Indemnity Compensation

1. The authority citation for part 3, subpart A continues to read as follows:

Authority: 38 U.S.C. 501(a), unless otherwise noted.

2. In § 3.42, revise paragraph (c)(4)(ii) and add the information collection parenthetical at the end of the section to read as follows:

§ 3.42 Compensation at the full-dollar rate for certain Filipino veterans or their survivors residing in the United States.

* * * * *

(c) * * *

(4) * * *

(ii) A Post Office box mailing address in the veteran's name or the name of the veteran's survivor does not constitute evidence showing that the veteran or veteran's survivor is lawfully residing in the United States.

* * * * *

(The Office of Management and Budget has approved the information collection requirements in this section under control number 2900-0655.)

§ 3.43 Burial benefits at the full-dollar rate for certain Filipino veterans residing in the United States on the date of death.

3. In § 3.43, add the information collection parenthetical at the end of the section to read as follows:

* * * * *

(The Office of Management and Budget has approved the information collection requirements in this section under control number 2900-0655.)

[FR Doc. E6-22501 Filed 12-29-06; 8:45 am]

BILLING CODE 8320-01-P